DEPARTMENT OF HEALTH AND HUMAN SERVICES

Food and Drug Administration

[Docket No. 1984F-0095]

Genencor International, Inc.; Withdrawal of Food Additive Petition

AGENCY: Food and Drug Administration, HHS.

ACTION: Notice.

SUMMARY: The Food and Drug Administration (FDA) is announcing the withdrawal, without prejudice to a future filing, of a food additive petition (FAP 4A3806) proposing that the food additive regulations be amended to provide for the safe use of a polyamine-epichlorohydrin resin and glutaraldehyde, together, as fixing agents in the immobilization of glucose isomerase enzyme preparations for use in the manufacture of high fructose corn syrup.

FOR FURTHER INFORMATION CONTACT: Blondell Anderson, Center for Food Safety and Applied Nutrition (HFS-265), Food and Drug Administration, 5100 Paint Branch Pkwy., College Park, MD 20740, 202-418-3106.

SUPPLEMENTARY INFORMATION: In a notice published in the Federal Register of April 26, 1985 (50 FR 16558), FDA announced that a food additive petition (FAP 4B3806 (which was later redesignated as FAP 4A3806)) had been filed by Miles Laboratories, Inc., Elkhart, IN 46515. The petition proposed to amend the food additive regulations in §173.357 Materials used as fixing agents in the immobilization of enzyme preparations (21 CFR 173.357) to provide for the safe use of a polyamine-epichlorohydrin resin and glutaraldehyde, together, as fixing agents in the immobilization of glucose isomerase enzyme preparations for use in the manufacture of high fructose corn syrup. On May 24, 2000, Genencor International, Inc., 925 Page Mill Rd., Palo Alto, CA 94304, informed FDA in writing that they had acquired the rights to FAP 4A3806. Genencor International, Inc., has now withdrawn the petition without prejudice to a future filing (21 CFR 171.7).

Dated: August 27, 2003.
Laura M. Tarantino,
Acting Director, Office of Food Additive Safety, Center for Food Safety and Applied Nutrition.

[FR Doc. 03-23332 Filed 9-12-03; 8:45 am]

BILLING CODE 4160-01-S